DEPARTMENT OF HOUSING AND URBAN DEVELOPMENT

[Docket No. FR-4630-FA-35]

Announcement of Funding Awards for the Indian Housing Drug Elimination Program for Fiscal Year 2001

AGENCY: Office of Native American Programs, HUD.

ACTION: Announcement of funding awards.

SUMMARY: In accordance with Section 102(a)(4)(C) of the Department of Housing and Urban Development Reform Act of 1989, this announcement notifies the public of funding decisions made by the Department in a competition for funding under the Fiscal Year 2001 Notice of Funding Availability (NOFA) for the Indian Housing Drug Elimination Program (IHDEP). This announcement contains the consolidated names and addresses of these award recipients under the IHDEP.

FOR FURTHER INFORMATION CONTACT: For questions concerning the Indian Housing Drug Elimination Program awards, contact Barbara Gallegos, Office of Native Programs, Denver Program Office, 1999 Broadway, Suite 3390, Denver, CO 80202, telephone 1-800-561-5913 or the Indian Housing Drug Elimination Program Resource Center at 1-800-839-5561. Hearing or speech-impaired individuals may access this number via TTY by calling the toll-free Federal Information Relay Service at 1-800-877-8339.

SUPPLEMENTARY INFORMATION: The $12 million appropriated to fund the IHDEP was made available from the FY 2001 HUD Appropriation Act (Pub.L. 106-377, approved October 27, 2000). This program provides grants to Indian tribes and tribally designated housing entities (TDHEs) to eliminate drugs and drug-related crime in American Indian and Alaskan Native communities.

The FY 2001 awards announced in this Notice were selected for funding in a competition announced in a NOFA published in the Federal Register on February 26, 2001 (66 FR 11963). Applications were scored and selected for funding based on the selection criteria in that Notice and a national competition.

In accordance with Section 102 (a)(4)(C) of the Department of Housing and Urban Development Reform Act of 1989 (103 Stat.1987, 42 U.S.C. 3545), the Department is publishing the names, addresses, and amounts of the 50 awards made under the national competition in Appendix A to this document.

Dated: October 12, 2001.
Michael Liu,
Assistant Secretary for the Office of Public and Indian Housing.

Appendix A.—Awarded Applicants FY 2001 Indian Housing Drug Elimination Program
Applicant name | Contact | Address | City | State | Zipcode | Total
Bering Straits Regional Housing Authority | Mr. Wayne Mundy | P.O. Box 995 | Nome | AK | 99762 | $173,700
Cook Inlet Housing Authority | Ms. Carol Gore | 3510 Spenard Road, Suite 201 | Anchorage | AK | 99503 | 133,500
North Pacific Rim Housing Authority | Mr. Olen Harris | 8300 King Street | Anchorage | AK | 99518 | 75,300
Tagiumiullu Nunamiullu Housing Authority | Mr. Delbert Rexford | P.O. Box 409 | Barrow | AK | 99723 | 169,200
Tlinget-Haida Regional Housing Authority | Mr. Blake Kazama | 5446 Jenkins Dr., P.O. Box 32237 | Juneau | AK | 99803 | 172,500
Poarch Band of Creek Indians Housing Development | Mr. Fred McGhee | 5811 Jack Springs Rd | Atmore | AL | 36502 | 61,500
Gila River Department of Community Housing | Ms. Joyce Eddie | P.O. Box 528 | Sacaton | AZ | 85247 | 316,500
Navajo Nation | Mr. Kelsey Begaye | P.O. Box 9000 | Window Rock | AZ | 86515 | 1,500,000
Tohono O'Odham Ki:Ki Association | Mr. Loren Goldtooth | P.O. Box 790 | Sells | AZ | 85634 | 279,900
White Mountain Apache Housing Authority | Mr. Victor Velasquez | P.O. Box 1270 | Whiteriver | AZ | 85941 | 351,520
Concow-Maidu/Mooretown Rancheria | Ms. Shirley Prusia | 1 Alverda Drive | Oroville | CA | 95966 | 15,000
Northern Circle Indian Housing Authority | Ms. Darlene Tooley | 694 Pinoleville | Ukiah | CA | 95482 | 50,700
Round Valley Indian Housing Authority | Mr. Clifford Sloan | P.O. Box 682 | Covelo | CA | 95428 | 34,200
Southern Ute Indian Housing Authority | Ms. Rachel Sorrell | P.O. Box 447 | Ignacio | CO | 81137 | 62,400
Seminole Tribe of Florida | Mr. James Billie | 6300 Stirling Road | Hollywood | FL | 33024 | 140,100
Nez Perce Tribal Housing Authority | Ms. Cielo Gibson | P.O. Box 188 | Lapwai | ID | 83540 | 77,100
Pleasant Point Passamaquoddy | Mr. R. Clayton Cleaves | RR1 Box 339 | Perry | ME | 04667 | 36,000
Bay Mills Housing Authority | Mr. Jeffrey Parker | 3095 S. Towering Pines | Brimley | MI | 49715 | 60,900
Sault Ste Marie Tribe Housing Authority | Ms. Jolene Nertoli | 2218 Shunk Road | Sault Ste, Marie | MI | 49783 | 129,600
Mille Lacs Health & Human Services Center | Ms. Linda Lyons | 43408 Oodena | Onamia | MN | 56359 | 40,500
Choctaw Housing Authority | Mr. Morris Carpenter | P.O. Box 6088, Choctaw Branch | Philadelphia | MS | 39350 | 282,300
Blackfeet Housing | Mr. Ray Wilson | PO Box 449 | Browning | MT | 59417 | 333,320
Fort Peck Assiniboine and Sioux Tribes | Mr. Arlyn Headdress | P.O. Box 1027 | Poplar | MT | 59155 | 330,000
Salish Kootenai Housing Authority | Mr. Robert Gauthier | P.O. Box 38 | Pablo | MT | 59855 | 197,700
Qualla Housing Authority | Ms. Catherine Lambert | P.O. Box 1749, Acquoni Road | Cherokee | NC | 29719 | 276,300
Fort Berthold Housing Authority | Mr. Charles Moran | P.O. Box 310 | Newtown | ND | 58763 | 202,200
Standing Rock Housing Authority | Mr. Ken Alkire | P.O. Box 484 | Fort Yates |  | 58538 | 275,400
Turtle Mountain Housing Authority | Ms. Becky Phelps | P.O. Box 620 | Belcourt | ND | 58316 | 396,760
Omaha Tribal Housing Authority | Ms. Erica Spears | P.O. Box 150 | Macy | NE | 68039 | 79,500
Zuni Housing Authority | Ms. Mary Ghahate | P.O. Box 710, Pueblo of Zuni | Zuni | NM | 87327 | 192,900
Reno Sparks Indian Colony Tribal Council | Mr. Arlan Melendez | 98 Colony Road | Reno | NV | 89502 | 60,000
Washoe Housing Authority | Mr. Willard Bennett | 1588 Watasheamu Dr | Gardnerville | NV | 89410 | 46,500
Chickasaw Nation Division of Housing | Mr. Wayne Scribner | 901 N. Country Club Road | Ada | OK | 74820 | 468,520
Housing Authority of the Cherokee Nation | Mr. Chadwick Smith | P.O. Box 948 | Tahlequah | OK | 74465 | 725,660
Housing Authority of the Chocktaw Nation of Oklahoma | Mr. Russell Sossamon | P.O. Box G | Hugo | OK | 74743 | 562,900
Kaw Tribal Housing Authority | Ms. Maryln Springer | #9 Kanza Lane, P.O. Box 371 | Newkirk | OK | 74647 | 35,100
Cheyenne River Housing Authority | Mr. Wayne Ducheneaux | P.O. Box 480 | Eagle Butte | SD | 57625 | 270,300
Oglala Sioux Lakota Housing | Mr. Richard Shangreaux | P.O. Box C | Pine Ridge | SD | 57770 | 395,980
Rosebud Sioux Tribe | Mr. James Waln | Box #69 | Rosebud | SD | 57570 | 326,700
Sisseton Wahpeton Housing Authority | Mr. Ron Jones | P.O. Box 687 | Sisselton | SD | 57262 | 184,800
Yankton Sioux Tribal Housing Authority | Mr. Joseph Abdo, Jr | 410 South Main Street | Wagner | SD | 57380 | 93,900
Lummi Indian Nation | Mr. William Jones | 2616 Kwina Road | Bellingham | WA | 98226 | 70,800
Skokomish Indian Tribe Housing Authority | Ms. Elizabeth Griffin-Hall | North 80 Tribal Center Road | Shelton | WA | 98584 | 23,700
Bad River Band of Lake Superior Tribe of Chippewa | Mr. Eugene Bigboy, Sr | P.O. Box 39 | Odanah | WI | 54861 | 57,900
Ho-Chunk Housing Authority | Ms. Myra Price | P.O. Box 546 | Tomah | WI | 54660 | 53,400
Lac Courtes Oreilles Indian Housing Authority | Mr. J. Wm. Cadotte | 13416 W. Trepania Rd | Hayward | WI | 54843 | 135,000
Lac Du Flambeau Chippewa Housing Authority | Ms. Natalie Poupart | 554 Chicog Street, P.O. Box 187 | Lac Du Flambeau | WI | 54538 | 93,300
Menominee Indian Tribe of Wisconsin | Mr. Wendell Askenette | P.O. Box 910 | Keshena | WI | 54135 | 121,200
Eastern Shoshone Housing Authority | Ms. Cheryl Arthur | P.O. Box 1250 | Ft. Washakie | WY | 82514 | 87,900
Northern Arapaho Tribal Housing | Mr. Frank Armajo | P.O. Box 8236 | Ethete | WY | 82520 | 116,100

[FR Doc. 01-26333 Filed 10-18-01; 8:45 am]

BILLING CODE 4210-33-P